DEPARTMENT OF DEFENSE

Department of the Air Force

Performance Review Boards List of 2001 Members

Below is a list of additional individuals who are eligible to serve on the Performance Review Boards for the Department of the Air Force in accordance with the Air Force Senior Executive Appraisal and Awards System.

Secretariat

Mr. Roger M. Blanchard

Mr. Arthur J. Coleman, Jr.

Brig. Gen. Walter Jones

Mr. James A. Papa

Ms. Barbara A. Westgate

Mr. Harlan G. Wilder

Mr. James B. Engle

Air Staff and “Others”

Mr. James R. Speer

Ms. Christine M. Anderson

Mr. Timothy A. Beyland

Ms. Debra L. Haley

Mr. James E. Short

Mr. Jimmy G. Dishner

Mr. Kenneth E. Gregory

Air Force Materiel Command

Lt. Gen. Charles Coolidge

Mr. Ronald L. Orr

Dr. Donald C. Daniel

Brig. Gen. David Canaan

Ms. Judy A. Stokely

Janet A. Long,
Air Force Federal Register Liaison Officer.

[FR Doc. 01-18660 Filed 7-25-01; 8:45 am]

BILLING CODE 5001-05-P